DEPARTMENT OF HEALTH AND HUMAN SERVICES

Centers for Disease Control and Prevention

[30Day-08-07BL]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Personal Flotation Devices (PFDs) and Commercial Fishermen: Preconceptions and Evaluation in Actual Use—New—National Institute for Occupational Safety and Health (NIOSH), Centers for Disease Control and Prevention (CDC).

Background and Brief Description

NIOSH has the responsibility under Public Law 91-596 section 20 (Occupational Safety and Health Act of 1970) to conduct research relating to innovative methods, techniques, and approaches for dealing with occupational safety and health problems.

Commercial fishing is one of the most dangerous occupations in the United States, with a fatality rate 30 times higher than the national average. Most fishermen who die on the job drown subsequent to a vessel sinking (51%) or fall overboard (29%). Because drowning is the leading cause of death for commercial fishermen, its prevention is one of the highest priorities for those who work to make the industry safer.

The risk of drowning for commercial fisherman is high, yet most fishermen do not wear Personal Flotation Devices (PFDs) while on deck. From 1990 to 2005, 71 commercial fishermen drowned subsequent to a fall overboard in Alaska. None of the victims were wearing a PFD, and many were within minutes of being rescued when they lost their strength and disappeared under the surface of the water.

Although there are many new styles of PFDs on the market, it is unknown how many commercial fishermen are aware of them, or if they are more comfortable and wearable than the older styles. There have not been any published studies testing PFDs on commercial fisherman to measure product attributes and satisfaction.

The purpose of this study is to first, identify fishermen's perceptions of risk, safety attitudes, and beliefs about PFDs; and second, to evaluate a variety of modern PFDs with commercial fishermen to discover the features and qualities that they like and dislike. This study addresses the repeated recommendation by NIOSH that all commercial fishermen wear PFDs while on deck.

NIOSH is requesting OMB approval for 24 months to administer a survey to collect data on fishermen's perceptions, attitudes, and beliefs. Additionally, NIOSH is requesting approval to involve fishermen directly with an evaluation of the wearability of several different styles of PFDs during fishing operations.

This study has the potential to greatly benefit the fishing industry. One of the first steps to increasing PFD use among commercial fishermen is gaining an understanding of fishermen's reasons for not wearing PFDs. With the empirical data at hand, safety professionals may be better equipped to address fishermen's concerns and remove the barriers that are currently in place.

Findings from the PFD evaluations will provide manufacturers valuable information about commercial fishermen's needs and expectations of PFDs. Because the PFD wearability ratings will be completed by fishermen during fishing operations, the results may have more credibility when they are disseminated to the industry. The PFD evaluation will also supply information to fishermen about which types of PFDs worked best for different types of fishing operations.

There are no costs to respondents other than their time. The total estimated annualized burden hours are 200.

Estimated Annualized Burden Hours
Type of respondent | Number of respondents | Number of responses per respondent | Average burden per response (in hours) | Total burden hours
Fishermen (Survey) | 400 | 1 | 20/60 | 133
Fishermen (Evaluation) | 200 | 2 | 10/60 | 67
Total |  |  |  | 200

Dated: May 8, 2008.
Maryam I. Daneshvar,
Reports Clearance Officer, Centers for Disease Control and Prevention.

[FR Doc. E8-10792 Filed 5-13-08; 8:45 am]

BILLING CODE 4163-18-P